ENVIRONMENTAL PROTECTION AGENCY

40 CFR Part 435

[EPA-HQ-OW-2014-0598; FRL-9928-58-OW]

RIN 2040-AF35

Effluent Limitations Guidelines and Standards for the Oil and Gas Extraction Point Source Category; Extension of Comment Period

AGENCY: Environmental Protection Agency (EPA).

ACTION: Proposed rule, extension of the public-comment period.

SUMMARY: The Environmental Protection Agency (EPA) received requests for an extension of the period for providing comments on the proposed rule entitled “Effluent Limitations Guidelines and Standards for the Oil and Gas Extraction Point Source Category,” published in the Federal Register on April 7, 2015. EPA extends the comment period in order to provide the public additional time to submit comments and supporting information.

DATES: Comments: The public comment period for the proposed rule published April 7, 2015, (80 FR 18557, is being extended to July 17, 2015.

ADDRESSES: Comments: Written comments on the proposed rule may be submitted to the EPA electronically, by mail, by facsimile or through hand delivery/courier. Please refer to the proposal (80 FR 18557) for the addresses and detailed instructions.

Docket. Publically available documents relevant to this action are available for public inspection either electronically at http://www.regulations.gov or in hard copy at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is 202-566-1744, and the telephone number for the Water Docket is 202-566-2426. The EPA has established the official public docket No. EPA-HQ-OW-2014-0598.

FOR FURTHER INFORMATION CONTACT: Lisa Biddle, Engineering and Analysis Division (4303T), Office of Water, Environmental Protection Agency, 1200 Pennsylvania Ave. NW., Washington, DC 20460-0001; telephone: 202-566-0350; email: biddle.lisa@epa.gov.

List of Subjects in 40 CFR Part 435

Environmental protection, Pretreatment, Waste treatment and disposal, Water pollution control, Unconventional oil and gas extraction.

Dated: May 21, 2015.
Kenneth J. Kopocis,
Deputy Assistant Administrator, Office of Water.

[FR Doc. 2015-13414 Filed 6-1-15; 8:45 am]

BILLING CODE 6560-50-P